COMMODITY FUTURES TRADING COMMISSION

Sunshine Act Meetings

TIME AND DATE: 10:00 a.m., Tuesday, April 23, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Notice of Proposed Rulemaking Regarding Amendments to Commission Regulations on Certain Swap Data Repository and Swap Data Reporting Requirements;

• Notice of Proposed Rulemaking Regarding Amendments to Derivatives Clearing Organization General Provisions and Core Principles;

• Comparability Determination for the United Kingdom: Certain Requirements Applicable to Swap Dealers and Major Swap Participants under U.K. Law following a No-Deal Brexit;

• Final Rule Amending Commission Regulations to Conform to FAST Act Provisions on Privacy of Consumer Financial Information; and

• Certification of the NIFTY 50 Index Futures Contract Listed on the NSE IFSC Limited to be Offered and Sold to Persons Located in the United States.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: April 12, 2019.
Robert Sidman,
Deputy Secretary of the Commission.

[FR Doc. 2019-07738 Filed 4-15-19; 11:15 am]

BILLING CODE 6351-01-P